GENERAL SERVICES ADMINISTRATION

[OMB Control No. 3090-0007; Docket No. 2024-0001; Sequence No. 7]

Submission for OMB Review; General Services Administration Acquisition Regulation; Contractor Qualifications and Financial Information, GSA Form 527

AGENCY: Office of Acquisition Policy, General Services Administration (GSA).

ACTION: Notice.

SUMMARY: In accordance with the Paperwork Reduction Act of 1995, and the Office of Management and Budget (OMB) regulations, GSA invites the public to comment on a request to review and approve an extension of a previously approved information collection requirement regarding contractor qualifications and financial information.

DATES: Submit comments on or before: October 21, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Bryon Boyer, Procurement Analyst, at gsarpolicy@gsa.gov or 817-850-5580.

SUPPLEMENTARY INFORMATION:

A. Purpose

GSA requires prospective contractors to submit certain financial information in order for a contracting officer to make a determination that such prospective contractors are financially responsible for an award, in accordance with the Federal Acquisition Regulation (FAR) 9.103(a) and 9.104-1 and also the General Services Administration Acquisition Manual (GSAM) 509.105-1(a). GSA Form 527, Contractor's Qualifications and Financial Information is used to achieve uniformity and consistency in the process.

B. Annual Reporting Burden

Respondents: 868.

Responses Per Respondent: 1.2.

Total Responses: 1,042.

Hours Per Response: 1.5.

Total Burden Hours: 1,563.

C. Public Comments

A 60-day notice published in the Federal Register at 89 FR 55594 on July 5, 2024. No comments were received.

Obtaining Copies of Proposals: Requesters may obtain a copy of the information collection documents from the Regulatory Secretariat Division (MVCB), at GSARegSec@gsa.gov. Please cite OMB Control No. 3090-0007, Contractor Qualifications and Financial Information, in all correspondence.

Jeffrey A. Koses,
Senior Procurement Executive, Office of Acquisition Policy, Office of Government-wide Policy.

[FR Doc. 2024-21405 Filed 9-18-24; 8:45 am]

BILLING CODE 6820-61-P